DEPARTMENT OF TRANSPORTATION

Federal Motor Carrier Safety Administration

[Docket No. FMCSA-2024-0255]

Agency Information Collection Activities; New Information Collection: Study of Warning Devices for Stopped Commercial Motor Vehicles

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. This notice invites comments on a proposed information collection titled “Study of Warning Devices for Stopped Commercial Motor Vehicles.” It is an experimental study that requires data collection for evaluating whether warning devices meaningfully influence crash-relevant aspects of human performance in the presence of a parked or disabled commercial motor vehicle (PDCMV), and if so, how and to what extent. These data collection efforts are expected to require the participation of 256 drivers.

DATES: Comments on this notice must be received on or before March 10, 2025.

ADDRESSES: You may submit comments identified by Docket Number FMCSA-2024-0255 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC, 20590-0001 between 9 a.m. and 5 p.m. ET, Monday through Friday, except Federal holidays. To be sure someone is there to help you, please call (202) 366-9317 or (202) 366-9826 before visiting Dockets Operations.

• Fax: (202) 493-2251.

To avoid duplication, please use only one of these four methods. See the “Public Participation and Request for Comments” portion of the SUPPLEMENTARY INFORMATION section for instructions on submitting comments.

FOR FURTHER INFORMATION CONTACT: Samuel White, Research Division, DOT, FMCSA, 1200 New Jersey Avenue SE, West Building, 6th Floor, Washington, DC 20590; 202-366-3068; Samuel.White@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2024-0255), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2024-0255/document, click on this notice, click “Comment,” and type your comment into the text box on the following screen.

If you submit your comments by mail or hand delivery, submit them in an unbound format, no larger than 8½ by 11 inches, suitable for copying and electronic filing.

Comments received after the comment closing date will be included in the docket and will be considered to the extent practicable.

Privacy Act

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

Background

PDCMVs on the road negatively impact traffic operations and safety.¹ To increase the conspicuity of PDCMVs and mitigate crash risk, FMCSA requires specific warning devices to be carried ² on all commercial motor vehicles (CMVs) and, except in the case of necessary traffic stops, be deployed ³ near the vehicle whenever it is stopped on the road or shoulder. The Federal Motor Carrier Safety Regulations (FMCSRs) prescribe specific rules ⁴ concerning how and where the warning devices must be placed, based on road and traffic attributes (e.g., whether the road is straight or curved, whether the vehicle is stopped in a business or residential district, whether the road is divided or undivided, etc.) as well as the presence of conditions affecting visibility (e.g., time of day, physical obstructions, etc.). These requirements follow from the basic notion that increasing the conspicuity of a PDCMV makes it easier to see and recognize, thereby reducing the risk of a crash involving passing motorists.

In addition, the National Highway Traffic Safety Administration (NHTSA) prescribes performance and design specifications ⁵ for warning devices under 49 CFR 571.125 of the Federal Motor Vehicle Safety Standards. For instance, this standard establishes minimum specifications for factors affecting the conspicuity (including reflectivity, color, luminance) of warning triangles, the most commonly utilized type of warning device (due to their reusability, shelf life, and fire-risk safety concerns compared to flares or fuses). The purpose of this standard is “to assure that the warning devices can be readily observed during daytime and nighttime lighting conditions, have a standardized shape for quick message recognition, and perform properly when deployed.” ⁶

Public interest in warning device requirements for PDCMVs has increased in recent years for several reasons. For example, advances in automated driving system (ADS) technology have raised critical questions regarding potential barriers to regulatory compliance with warning device safety standards ⁷ and regulations ⁸ which reference or require a “driver.” In addition, alternative types of warning devices developed by industry, including those intended to increase driver safety during device deployment, have resulted in multiple applications for exemption from the corresponding safety regulations.9 10 These recent issues related to warning device requirements also call attention to the historically unresolved questions of whether the use of such devices improves traffic safety and, if so, how and to what extent.

Past attempts by the Federal Highway Administration (FHWA) 11 12 and other researchers ¹³ to answer those questions yielded generally inconclusive or inconsistent results, which possibly influenced NHTSA's past decision not to pursue conducting its own research on the topic.¹⁴ FMCSA (previously under FHWA) itself has never conducted experimental research on the impact of using warning devices. As the only regulatory authority which still requires CMV operators to use warning devices, the responsibility to answer these questions finally and definitively is best charged to FMCSA.

Given the increasing focus on ADS, questions surrounding the safety of CMV drivers when deploying warning devices, and the availability of new technology and alternative devices since these questions were last explored in the 1980s, there is a need to thoroughly evaluate the effectiveness of warning devices under current regulations. In addition, advanced research instruments unavailable or not in use at the time of all past research on this topic are now in common use and would permit far more sophisticated analyses of the effects of warning devices on driver behavior. This includes sensors which can precisely measure and record the location of vehicles (e.g., differential GPS), eye-tracking devices which allow the researcher to determine the precise moment when a driver first glanced at a PDCMV, and instrumented vehicles which record accurate, high-frequency data related to drivers' interactions with a vehicle's controls.

FMCSA plans to implement these modern tools in a controlled experiment at a closed-course, state-of-the-art driving research facility that will allow the most comprehensive examination of the effects of warning devices to date. The results of the study may support future rulemaking related to warning devices and provide baseline data necessary to inform Agency decisions on exemption applications for alternative warning device products.

Title: Warning Devices for Stopped Commercial Motor Vehicles.

OMB Control Number: 2126-00XX.

Type of Request: New ICR.

Respondents: Drivers.

Estimated Number of Respondents: 256.

Estimated Time per Response: 2.0 to 2.5 hours.

Expiration Date: This is a new ICR.

Frequency of Response: Once.

Estimated Total Annual Burden: 614.40 hours.

DEFINITIONS: N/A.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Thomas P. Keane,
Associate Administrator, Office of Research and Registration.

[FR Doc. 2025-00120 Filed 1-7-25; 8:45 am]

BILLING CODE 4910-EX-P